DEPARTMENT OF HOMELAND SECURITY

Coast Guard

33 CFR Part 165

[Docket Number USCG-2024-0680]

RIN 1625-AA00

Safety Zone; Waterway Training Area, Delaware River, Near Eddystone, PA

AGENCY: Coast Guard, DHS.

ACTION: Final rule.

SUMMARY: The Coast Guard is establishing a safety zone for certain waters of the Delaware River. This action is necessary to provide for the safety of life on the navigable waters on a portion of the Delaware River near Eddystone, PA, during non-lethal signaling and warning device training conducted from onboard U.S. Coast Guard vessels. This rule prohibits persons and vessels from being in the safety zone unless authorized by the Captain of the Port (COTP), Sector Delaware Bay or a designated representative.

DATES: This rule is effective December 9, 2024.

ADDRESSES: To view documents mentioned in this preamble as being available in the docket, go to https://www.regulations.gov, type USCG-2024-0680 in the search box and click “Search.” Next, in the Document Type column, select “Supporting & Related Material.”

FOR FURTHER INFORMATION CONTACT: If you have questions about this rulemaking, call or email LCDR Owen Mims, Chief Waterways Management Division, U.S. Coast Guard; 215-271-4814, SecDelBayWWM@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

To maintain ports, waterways, and coastal security mission readiness, Coast Guard personnel within the Sector Delaware Bay COTP Zone must conduct LA51 device training. As we explained in a notice of proposed rulemaking (NPRM), the LA51 is a non-lethal signaling and warning device Coast Guard personnel use during law enforcement operations for getting the attention of vessels which do not respond to orders from the Coast Guard. The NPRM was published on September 9, 2024, and titled Safety Zone; Waterway Training Area, Delaware River, Near Eddystone, PA (89 FR 73055).

At the present time, Coast Guard personnel within the Sector Delaware Bay COTP Zone must transit beyond the 12 NM baseline to conduct LA51 device training. This is a logistical and financial burden for the units within Sector Delaware Bay COTP Zone and it limits training opportunities. To better accommodate the Sector's training needs, the COTP Sector Delaware Bay proposed to establish a safety zone shoreward of the 12 nautical miles (NM) baseline for use as a waterway training area in the Delaware River. In the NPRM, we invited comments on our proposed regulatory action related to this safety zone. During the comment period that ended October 9, 2024, we received no comments.

III. Legal Authority and Need for Rule

The Coast Guard is issuing this rule under the authority in 46 U.S.C. 70034. The purpose of this rulemaking is to ensure the safety of vessels and the navigable waters within the waterway training area before, during, and after the training events.

IV. Discussion of Comments, Changes, and the Rule

As noted above, we received no comments on our NPRM. There are no changes in the regulatory text of this rule from the proposed rule in the NPRM.

The COTP Sector Delaware Bay is establishing a safety zone for use as a waterway training area. The safety zone waterway training area will only be used to conduct LA51 device training as needed for Coast Guard Law Enforcement training requirements. And the COTP Sector Delaware Bay will only activate the safety zone, making it subject to enforcement, during periods when training is being conducted.

The waterway training area includes all navigable waters, on a portion of the Delaware River, near Eddystone, PA, west of Little Tinicum Island and east of Chester Island. The safety zone is a square in shape measuring approximately 2,500 yards in length and approximately 2,500 yards in width. The exact coordinates of the safety zone are provided in the text of the rule, which is provided at the end of this FR article.

The waterway training area will be located within a portion of the main navigable channel in the Delaware River. Although this safety zone encompasses a portion of the main navigational channel in the Delaware River that is used by the commercial and recreational vessels, vessel traffic in this area would be able to safely transit through the safety zone after obtaining permission from the COTP Sector Delaware Bay or a designated representative. The Coast Guard will ensure appropriate monitoring of the waterway while the safety zone is activated.

The Coast Guard anticipates that the proposed safety zone would be activated for approximately two hours on six separate occasions annually—a total of approximately 12 annual enforcement hours for the zone. The Coast Guard anticipates that it would activate the zone at various times of the year during daylight hours only. Whenever a LA51 device training event is planned, the COTP Sector Delaware Bay would notify the maritime community of the enforcement dates and times of the safety zone as the training event dictates. Such notification would be made by broadcast or local notice to mariners, on-scene oral notice, or other appropriate means in accordance with 33 CFR 165.7.

The duration and enforcement of the zone is intended to ensure the safety of vessels and these navigable waters before, during, and after these training events. Except for training participants, no vessel or person would be permitted to enter the safety zone without obtaining permission from the COTP Sector Delaware Bay or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, duration, and location of the safety zone. It is anticipated that the safety zone will be activated for six separate events annually. Vessel traffic will be able to safely transit through the safety zone while being enforced, with permission from the COTP Sector Delaware Bay or a designated representative by telephone at (215) 271-4807 or on VHF-FM radio channel 16. The impact to the Delaware River would be for approximately 2 hours or less. Moreover, the Coast Guard will release the details of the zone via a Broadcast Notice to Mariners on VHF-FM radio channel 16 and publish in the Local Notice to Mariners.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a safety zone lasting approximately two hours on six separate occasions annually for LA51 device training. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.523 to read as follows:

§ 165.523 Safety Zone; Waterway Training Area, Sector Delaware Bay Captain of the Port Zone

(a) Location. All navigable waters, on a portion of the Delaware River, encompassed by a line connecting the following points beginning at latitude 39°51′05.4″ N, longitude 075°20′17.4″ W; thence east to latitude 39°51′42.0″ N, longitude 075°18′39.6″ W; thence south to latitude 39°50′38.4″ N, longitude 075°18′09.0″ W; thence west to latitude 39°50′05.4″ N, 075°19′37.2″ W; and thence north back to the beginning point. (WGS 84)

(b) Definitions. As used in this section, designated representative means a Coast Guard Patrol Commander, including a Coast Guard petty officer, warrant or commissioned officer onboard a Coast Guard vessel or onboard a federal, state, or local law enforcement vessel assisting the Captain of the Port (COTP), Sector Delaware Bay in the enforcement of the safety zone.

(c) Regulations. (1) Under the general safety zone regulations in subpart C of this part, you may not enter or remain in the safety zone described in paragraph (a) of this section unless authorized by the COTP or the COTP's designated representative.

(2) To seek permission to enter or remain in the zone, contact the COTP or the COTP's representative via VHF-FM channel 16 or (215) 271-4807. Those in the safety zone must comply with all lawful orders or directions given to them by the COTP or the COTP's designated representative.

(3) No vessel authorized to enter or remain in the zone may take on bunkers or conduct lightering operations within the safety zone during its enforcement period.

(4) This section applies to all vessels except those engaged in law enforcement, aids to navigation servicing, and emergency response operations.

(d) Enforcement. (1) The safety zone created by this section will be enforced only upon issuance of a Broadcast Notice to Mariners (BNM) by the COTP or the COTP's representative, as well as on-scene notice or other appropriate means in accordance with § 165.7.

(2) The U.S. Coast Guard may be assisted in the patrol and enforcement of the safety zone by Federal, State, and local agencies.

Dated: November 4, 2024.
Kate F. Higgins-Bloom,
Captain, U.S. Coast Guard, Captain of the Port, Sector Delaware Bay.

[FR Doc. 2024-25958 Filed 11-7-24; 8:45 am]

BILLING CODE 9110-04-P